NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time:

October 20, 2022; 1 p.m.-2:30 p.m. EDT.

October 21, 2022; 1 p.m.-2:30 p.m. EDT.

Place: National Science Foundation, 2415 Eisenhower Ave., Alexandria, VA 22314/Virtual.

Meeting registration information is available on the GEO Advisory Committee website at https://www.nsf.gov/geo/advisory.jsp.

Type of meeting: Open.

Contact Person: Melissa Lane, National Science Foundation, Room C 8000, 2415 Eisenhower Avenue, Alexandria, Virginia 22314; Phone 703-292-8500.

Minutes: May be obtained from the contact person listed above.

Purpose of Meeting: To provide advice, recommendations, and oversight on support for geoscience research and education including atmospheric, geo-space, earth, ocean and polar sciences.

Agenda

October 20, 2022

A panel of approximately 5 researchers from different science disciplines and members of the Advisory Committee will discuss the impacts of the post-Covid economic climate on research projects and field campaigns.

October 21, 2022

A panel of approximately 4 NSF program officers and members of the Advisory Committee will discuss the impacts of the post-Covid economic climate on NSF-supported research projects and field campaigns.

Dated: September 19, 2022.
Crystal Robinson,
Committee Management Officer.

[FR Doc. 2022-20590 Filed 9-22-22; 8:45 am]

BILLING CODE 7555-01-P